DEPARTMENT OF TRANSPORTATION

Federal Aviation Administration

14 CFR Part 23

[Docket No. CE248, Notice No. 23-06-04-SC]

Special Conditions; Thielert Aircraft Engines GmbH, Piper PA 28-161 Cadet, Warrior II and Warrior III Series Airplanes; Diesel Cycle Engine Using Turbine (Jet) Fuel

AGENCY: Federal Aviation Administration (FAA), DOT.

ACTION: Notice of proposed special conditions; correction.

SUMMARY: On June 14, 2006, we published a document concerning proposed special conditions for Thielert Aircraft Engines GmbH, Piper PA 28-161 Cadet, Warrior II and Warrior III Series Airplanes with a Diesel Cycle Engine Using Turbine (Jet) Fuel. There was an error in the preamble of the proposed special conditions in the reference to the notice number. The notice number was used in a previous proposed special condition. This document contains a correction to the notice number; the docket number remains unchanged.

DATES: Comments must be received on or before July 14, 2006.

ADDRESSES: Comments may be mailed in duplicate to: Federal Aviation Administration, Regional Counsel, ACE-7, Attention: Rules Docket Clerk, Docket No. CE248, Room 506, 901 Locust, Kansas City, Missouri 64106. All comments must be marked: Docket No. CE248. Comments may be inspected in the Rules Docket weekdays, except Federal holidays, between 7:30 a.m. and 4 p.m.

FOR FURTHER INFORMATION CONTACT: Peter L. Rouse, Aerospace Engineer, Standards Office (ACE-110), Small Airplane Directorate, Aircraft Certification Service, Federal Aviation Administration, 901 Locust, Room 301, Kansas City, Missouri 64106; telephone (816) 329-4135, fax 816-329-4090.

SUPPLEMENTARY INFORMATION:

Need for Correction

The FAA published a document on June 14, 2006 (71 FR 34288) that issued proposed special conditions. In the document heading, the notice number “23-06-03-SC” appears. However, the correct notice number is “23-06-04-SC.” This document corrects that error.

Correction of Publication

Accordingly, the preamble of the proposed special conditions is revised to remove the notice number “23-06-03-SC” and to replace it with “23-06-04-SC” wherever it appears in the document.

Comments Invited

Interested persons are invited to submit such written data, views, or arguments, as they may desire. Communications should identify the regulatory docket or notice number and be submitted in duplicate to the address specified above. All communications received on or before the closing date for comments will be considered by the Administrator. The proposed special conditions may be changed in light of the comments received. All comments received will be available in the Rules Docket for examination by interested persons, both before and after the closing date for comments. A report summarizing each substantive public contact with FAA personnel concerning this rulemaking will be filed in the docket. Commenters wishing the FAA to acknowledge receipt of their comments submitted in response to this notice must include a self-addressed, stamped postcard on which the following statement is made: “Comments to Docket No. CE248.” The postcard will be date stamped and returned to the commenter.

Issued in Kansas City, Missouri on June 30, 2006.
Sandra J. Campbell,
Acting Manager, Small Airplane Directorate, Aircraft Certification Service.

[FR Doc. E6-10674 Filed 7-6-06; 8:45 am]

BILLING CODE 4910-13-P